DEPARTMENT OF COMMERCE

National Oceanic and Atmospheric Administration

50 CFR Part 622

[Docket No. 060425111-6315-03;I.D. 041906B]

RIN 0648-AN09

Fisheries of the Caribbean, Gulf of Mexico, and South Atlantic; Reef Fish Fishery of the Gulf of Mexico; Vessel Monitoring Systems; Amendment 18A

AGENCY: National Marine Fisheries Service (NMFS), National Oceanic and Atmospheric Administration (NOAA), Commerce.

ACTION: Final rule; delay of effective date.

SUMMARY: NMFS further delays the December 7, 2006, effective date of two sections of a final rule, published August 9, 2006, until May 6, 2007. The amendments to those sections will require owners/operators of vessels with Gulf reef fish commercial vessel permits to install a NMFS-approved vessel monitoring system (VMS) and will make installation of VMS a prerequisite for permit renewal or transfer. This delay of the effective date will provide additional time for resolution of an unanticipated technological problem with one of the approved VMS units purchased by significant portion of the fleet and will allow vendors additional time to meet the demand for purchase and installation of VMS units that are currently backlogged.

DATES: The effective date of §§ 622.9(a)(2) and 622.4(m)(1) published August 9, 2006 (71 FR 45428), is delayed until May 6, 2007.

ADDRESSES: Comments regarding the burden-hour estimates or other aspects of the collection-of-information requirements referred to in this final rule may be submitted in writing to Jason Rueter, NMFS, Southeast Regional Office, 263 13th Avenue South, St. Petersburg, FL 33701; telephone 727-824-5305; fax 727-824-5308; email Jason.Rueter@noaa.gov and to David Rostker, Office of Management and Budget (OMB), by e-mail at David_Rostker@omb.eop.gov, or by fax to 202-395-7285.

FOR FURTHER INFORMATION CONTACT: Peter Hood, telephone 727-824-5305, fax 727-824-5308, e-mail Peter.Hood@noaa.gov.

SUPPLEMENTARY INFORMATION:

Background

The final rule to implement Amendment 18A to the Fishery Management Plan for the Reef Fish Resources of the Gulf of Mexico (Amendment 18A) (71 FR 45428, August 9, 2006) included a provision, § 622.9(a)(2), requiring owners or operators of a vessel with a commercial vessel permit for Gulf reef fish, including charter/headboats with commercial reef fish vessel permits even when under charter, to be equipped with an operating VMS approved by NMFS for the Gulf of Mexico reef fish fishery. Additionally, § 622.4(m)(1) required proof of purchase, installation, activation, and operational status of an approved VMS for renewal or transfer of a commercial vessel permit for Gulf reef fish.

Subsequent to the publication of the final rule, NMFS published a notice listing VMS approved by NMFS for use in the Gulf reef fish fishery (71 FR 54472, September 15, 2006). On October 31, 2006, NMFS published a notice (71 FR 63753), announcing availability of grant funds to reimburse owners and operators of vessels subject to the VMS requirements of Amendment 18A for the equivalent cost of purchasing the least expensive VMS approved by NMFS for the Gulf reef fish fishery. On December 6, 2006, because of concerns that fishers would not have sufficient time to comply with the VMS requirements, NMFS published a notice (71 FR 70680) to delay the effective date of § 622.9(a)(2), the VMS requirement, and § 622.4(m)(1), the provision requiring VMS as a condition of renewing or transferring a commercial vessel permit for Gulf reef fish.

Further Delay of Effective Date

NMFS is further delaying, until May 6, 2007, the effective date of § 622.9(a)(2), the VMS requirement, and § 622.4(m)(1), the provision requiring VMS as a condition of renewing or transferring a commercial vessel permit for Gulf reef fish. NMFS recently learned, and has confirmed with the VMS vendor, that there is a technological problem with one of the approved VMS units that has been purchased by a significant portion of the commercial reef fish fleet. This VMS unit, as currently configured, has an excessive power draw. When the vessel is not under power or does not have access to an external power source for longer than about 48 hours, the power draw from this VMS unit can drain all battery power, resulting in failure of electronic equipment including such safety equipment as bilge pumps. The vendor is working with vessel owners to resolve this issue through a reconfiguration of the VMS installation. NMFS has determined that a 60-day delay in implementation of the VMS requirements should be sufficient to resolve this issue. NMFS has also confirmed that providers of approved VMS units have a substantial backlog of orders for approved VMS units. It would not be possible for all affected fishers to acquire, install, and activate the required VMS units prior to the current March 7, 2007 deadline. Therefore, for these reasons, NMFS is delaying the effective date of §§ 622.9(a)(2) and 622.4(m)(1) until May 6, 2007.

Classification

The Administrator, Southeast Region, NMFS, (RA) has determined that delaying the effective date of VMS requirements for vessels with commercial vessel permits for Gulf reef fish is necessary for management of the fishery and to minimize adverse social and economic impacts. The RA has also determined that this rule is consistent with the Magnuson-Stevens Fishery Conservation and Management Act and other applicable laws.

This final rule has been determined to be not significant for purposes of Executive Order 12866.

Pursuant to 5 U.S.C. 533(b)(B), there is good cause to waive prior notice and opportunity for public comment on this action as notice and comment would be impracticable and contrary to the public interest. This final rule merely delays the effective date of the VMS requirements and VMS-related permit renewal requirements set forth in the regulations implementing Amendment 18A. Delaying the effective date of these provisions will provide VMS vendors time to resolve a technological problem with one of the approved VMS units that could potentially affect vessel safety. The delay would also provide vendors additional time to meet the demand for delivery and installation of approved units, which NMFS has confirmed is currently backlogged. For these reasons, there is good cause to waive the 30-day delayed effectiveness provision of the APA for these measures pursuant to 5 U.S.C. 553(d)(3). Failure to waive prior notice and opportunity for public comment or failure to waive the 30-day delayed effectiveness provision of the APA for these measures would result in these measures becoming effective on March 7, 2007, rather than providing the additional time necessary to resolve these unanticipated issues.

This final rule is exempt from the procedures of the Regulatory Flexibility Act because the rule is issued without opportunity for prior notice and opportunity for public comment.

This rule refers to collection-of-information requirements subject to the Paperwork Reduction Act (PRA) and which have been approved by OMB under Control Number 0648-0544. Public reporting for these requirements is estimated to average 4 hours for VMS installation, 15 minutes for completion and submission of certification of VMS installation and activation, 24 seconds for transmission of position reports, 2 hours for annual maintenance of VMS, 10 minutes for submission of requests for power-down exemptions, and 15 minutes for annual renewal of all permits. These estimates include the time for reviewing instructions, searching existing data sources, gathering and maintaining the data needed, and completing and reviewing the collection of information. Send comments regarding these burden estimates or any other aspect of this data collection, including suggestions for reducing burden hours, to NMFS (see ADDRESSES) and by email to David_Rostker@omb.eop.gov, or fax to 202-395-7285.

Notwithstanding any other provision of law, no person is required to respond to, and no person shall be subject to penalty for failure to comply with, a collection of information subject to the requirements of the PRA, unless that collection of information displays a currently valid OMB control number.

Authority: 16 U.S.C. 1801 et seq.

Dated: February 28, 2007.
Samuel D. Rauch III,
Deputy Assistant Administrator for Regulatory Programs, National Marine Fisheries Service.

[FR Doc. 07-1013 Filed 3-1-07; 3:27 pm]

BILLING CODE 3510-22-S